DEPARTMENT OF COMMERCE

National Oceanic and Atmospheric Administration

RIN 0648-XG778

North Pacific Fishery Management Council; Public Meeting

AGENCY: National Marine Fisheries Service (NMFS), National Oceanic and Atmospheric Administration (NOAA), Commerce.

ACTION: Notice of public meeting.

SUMMARY: The North Pacific Fishery Management Council (Council) Community Engagement Committee (CEC) will meet on March 20, 2019.

DATES: The meeting will be held on Wednesday, March 20, 2019, from 10 a.m. to 4 p.m. Alaska Standard Time.

ADDRESSES: The meeting will be held at the Anchorage Hilton Hotel, 500 W 3rd Ave., Anchorage, AK 99501. Meeting room to be determined. Teleconference number is (907) 245-3900, Pin is 2809.

Council address: North Pacific Fishery Management Council, 605 W 4th Ave., Suite 306, Anchorage, AK 99501-2252; telephone: (907) 271-2809.

FOR FURTHER INFORMATION CONTACT: Steve MacLean, Council staff; telephone: (907) 271-2809.

SUPPLEMENTARY INFORMATION:

Agenda

Wednesday, March 20, 2019

The purpose of the meeting is to provide background about the Council's current outreach and communication procedures and strategies for the committee to consider as they develop recommendations to the Council on whether and how to update the Council's communications with rural Alaska and Alaska Native communities. The CEC will develop their recommendations to the Council over a series of meetings the dates of which are to be discussed at this meeting on March 20, 2019. The Agenda is subject to change, and the latest version will be posted at https://www.npfmc.org/committees/cec/ prior to the meeting, along with meeting materials.

Public Comment

Public comment letters will be accepted and should be submitted either electronically via the eCommenting portal at meetings.npfmc.org or through the mail: North Pacific Fishery Management Council, 605 W 4th Ave., Suite 306, Anchorage, AK 99501-2252. In-person oral public testimony will be accepted at the discretion of the chair.

Special Accommodations

The meeting is physically accessible to people with disabilities. Requests for sign language interpretation or other auxiliary aids should be directed to Shannon Gleason at (907) 271-2809 at least 7 working days prior to the meeting date.

Dated: February 6, 2019.
Tracey L. Thompson,
Acting Deputy Director, Office of Sustainable Fisheries, National Marine Fisheries Service.

[FR Doc. 2019-01864 Filed 2-8-19; 8:45 am]

BILLING CODE 3510-22-P